NATIONAL AERONAUTICS AND SPACE ADMINISTRATION

48 CFR Part 1842

Final Indirect Cost Rates

AGENCY: National Aeronautics and Space Administration (NASA).

ACTION: Final rule.

SUMMARY: This is a final rule amending the NASA FAR Supplement (NFS) to provide guidance on when NASA participation should occur in the determination of final indirect cost rates.

EFFECTIVE DATE: October 25, 2000.

FOR FURTHER INFORMATION CONTACT: Mr. Joseph Le Cren, NASA Headquarters, Office of Procurement, Contract Management Division (Code HK), Washington, DC 20546, telephone: (202) 358-0444, e-mail: joseph.lecren@hq.nasa.gov.

SUPPLEMENTARY INFORMATION:

A. Background

A NASA Office of Inspector General report interpreted the coverage at NFS 1842.705-1 to always require NASA participation in final indirect cost rate determinations where the agency has a major financial interest. The intent of the coverage was that NASA should participate in final indirect cost rate determinations when invited by the cognizant contracting officer, and the issues involved would have a significant financial impact on the agency. NASA should not participate when the issues would not have a significant impact on the agency. The NFS revision more clearly communicates this intent. The NFS revision also specifies that, in cases where the issues involved in the final indirect cost rate determination would have a significant financial impact on the agency and a decision is made not to participate, the decision needs to be communicated to the cognizant contracting officer.

B. Regulatory Flexibility Act

This final rule does not constitute a significant revision within the meaning of FAR 1.501 and Pub. L. 98-577, and publication for public comments is not required. However, comments from small entities concerning the affected NFS subpart will be considered in accordance with 5 U.S.C. 610. Such comments must be submitted separately and should cite 5 U.S.C. 601, et seq.

C. Paperwork Reduction Act

The Paperwork Reduction Act does not apply because the changes to the NFS do not impose recordkeeping or information collection requirements, or collections of information from offerors, contractors, or members of the public which require the approval of the Office of Management and Budget under 44 U.S.C. 3501, et seq.

List of Subjects in 48 CFR Part 1842

Government procurement.

Tom Luedtke,
Associate Administrator for Procurement.

Accordingly, 48 CFR Part 1842 is amended as follows:

1. The authority citation for 48 CFR Part 1842 continues to read as follows:

Authority: 42 U.S.C. 2473 (c)(1).

PART 1842—CONTRACT ADMINISTRATION AND AUDIT SERVICES

2. Revise section 1842.705-1 to read as follows:

1842.705-1 Contracting officer determination procedure.

(b) Procedures.

(3)(i) When NASA is not the cognizant Federal agency, NASA should participate with the cognizant contracting officer (or cognizant Federal agency official) in the final indirect cost rate determination procedure where the issues involved would have a significant financial impact on the agency. The NASA participant should be a representative from that installation providing the preponderance of NASA funding. If a determination is made that NASA's participation is not warranted, that decision must be communicated to the cognizant contracting officer (or cognizant Federal agency official).

(ii) When NASA is the cognizant Federal agency, settlement of indirect costs should be conducted by the cognizant NASA contracting officer (normally from the installation providing the preponderance of NASA funding).

[FR Doc. 00-27294 Filed 10-24-00; 8:45 am]

BILLING CODE 7510-01-U